DEPARTMENT OF ENERGY

48 CFR Parts 927, 952, and 970

RIN 1991-AB82

Acquisition Regulation: Patents, Data and Copyrights

AGENCY: Department of Energy.

ACTION: Notice of proposed rulemaking; withdrawal.

SUMMARY: On November 7, 2013, the U.S. Department of Energy (DOE) published a rule in the Federal Register proposing to amend the Department of Energy Acquisition Regulation (DEAR). DOE hereby withdraws this proposed rule.

DATES: The proposed rule that appeared in the Federal Register on November 7, 2013 (78 FR 66865) is withdrawn as of April 19, 2019.

FOR FURTHER INFORMATION CONTACT: Sharon Archer, U.S. Department of Energy, Office of Acquisition Management, MA-611, 950 L'Enfant Plaza SW, Washington, DC 20024. Telephone: (202) 287-1739. Email: Sharon.Archer@hq.doe.gov.

SUPPLEMENTARY INFORMATION: On November 3, 2013, the U.S. Department of Energy (DOE) published a rule proposing to make changes to conform to the Federal Acquisition Regulation (FAR). This proposed revision would have updated, clarified and streamlined text in certain DOE intellectual property and technology transfer clauses in order to benefit from DOE's experience under the existing clauses, and, where necessary, make these DOE clauses consistent with recent changes to the FAR. However, the Department has determined that it will not proceed with the rulemaking and, as such, is withdrawing the proposed rule. The changes that were proposed in this rulemaking will be incorporated into a larger rulemaking that will update the entire Department of Energy Acquisition Regulation (DEAR).

Signed in Washington, DC, on March 26, 2019.
John Bashista,
Director, Office of Acquisition Management, Department of Energy.

[FR Doc. 2019-07913 Filed 4-18-19; 8:45 am]

BILLING CODE 6450-01-P